DEPARTMENT OF LABOR

Occupational Safety and Health Administration

[Docket No. OSHA-2013-0012]

Modification to the List of Appropriate NRTL Program Test Standards and the Scopes of Recognition of Several NRTLs

AGENCY: Occupational Safety and Health Administration (OSHA), Labor.

ACTION: Notice.

SUMMARY: In this notice, OSHA announces its final decision to: (1) Add a new test standard to the Nationally Recognized Testing Laboratories (NRTL) Program's list of appropriate test standards; (2) delete or replace several test standards from the NRTL Program's list of appropriate test standards; and (3) update the scope of recognition of several NRTLs.

DATES: The actions contained in this notice will become effective on April 10, 2019.

FOR FURTHER INFORMATION CONTACT: Information regarding this notice is available from the following sources:

Press inquiries: Contact Mr. Frank Meilinger, Director, OSHA Office of Communications; telephone: (202) 693-1999; email: meilinger.francis2@dol.gov.

General and technical information: Contact Mr. Kevin Robinson, Director, Office of Technical Programs and Coordination Activities, Directorate of Technical Support and Emergency Management, Occupational Safety and Health Administration; telephone: (202) 693-2110 or email: robinson.kevin@dol.gov. OSHA's web page includes information about the NRTL Program (see http://www.osha.gov/dts/otpca/nrtl/index.html).

SUPPLEMENTARY INFORMATION:

I. Background

The NRTL Program recognizes organizations that provide product-safety testing and certification services to manufacturers. These organizations perform testing and certification for purposes of the program, to U.S. consensus-based product-safety test standards. The products covered by the NRTL Program consist of those items for which OSHA safety standards require “certification” by a NRTL. The requirements affect electrical products and 38 other types of products. OSHA does not develop or issue these test standards, but generally relies on standards development organizations (SDOs), which develop and maintain the standards using a method that provides input and consideration of views of industry groups, experts, users, consumers, governmental authorities and others having broad experience in the safety field involved.

Addition of New Test Standards to the NRTL List of Appropriate Test Standards

Periodically, OSHA will add new test standards to the NRTL list of appropriate test standards following an evaluation of the test standard document. To qualify as an appropriate test standard, the agency evaluates the document to (1) verify it represents a product category for which OSHA requires certification by a NRTL, (2) verify the document represents an end product and not a component, and (3) verify the document defines safety test specifications (not installation or operational performance specifications). OSHA becomes aware of new test standards through various avenues. For example, OSHA may become aware of new test standards by: (1) Monitoring notifications issued by certain SDOs; (2) reviewing applications by NRTLs or applicants seeking recognition to include a new test standard in their scopes of recognition; and (3) obtaining notification from manufacturers, manufacturing organizations, government agencies, or other parties that a new test standard may be appropriate to add to the list of appropriate standards. OSHA may determine to include a new test standard in the list, for example, if the test standard is for a particular type of product that another test standard also covers, addresses a type of product that no standard previously covered, or is otherwise new to the NRTL Program.

SDO Deletion and Replacement of Test Standards

The NRTL Program regulations require that appropriate test standards be maintained and current (29 CFR 1910.7(c)). A test standard withdrawn by a standards development organization is no longer considered an appropriate test standard (Directive, App. C.XIV.B). It is OSHA's policy to remove recognition of withdrawn test standards by issuing a correction notice in the Federal Register for all NRTLs recognized for the withdrawn test standards. However, SDOs frequently will designate a replacement standard for withdrawn standards. OSHA will recognize a NRTL for an appropriate replacement test standard if the NRTL has the requisite testing and evaluation capability for the replacement test standard.

One method that NRTLs may use to show such capability involves an analysis to determine whether any testing and evaluation requirements of existing test standards in a NRTL's scope are comparable (i.e., are completely or substantially identical) to the requirements in the replacement test standard. If OSHA's analysis shows the replacement test standard does not require additional or different technical capability than an existing test standard(s), the replacement test standard is comparable to the existing test standard(s), then OSHA can add the replacement test standard to affected NRTLs' scopes of recognition. If OSHA's analysis shows the replacement test standard requires an additional or different technical capability, or the replacement test standard is not comparable to any existing test standards, each affected NRTL seeking to have OSHA add the replacement test standard to the NRTL's scope of recognition must provide information to OSHA that demonstrates technical capability.

Other Reasons for Removal of Test Standards From the NRTL List of Appropriate Test Standards

OSHA may choose to remove a test standard from the NRTL list of appropriate test standards based on an internal review in which NRTL Program staff review the NRTL list of appropriate test standards to determine if the test standards conform to the definition of an appropriate test standard defined in NRTL Program regulations and policy. There are several reasons for removing a test standard based on this review. First, a document that provides the methodology for a single test is a test method rather than an appropriate test standard (29 CFR 1910.7(c)). As stated above, a test standard must specify the safety requirements for a specific type of product(s). A test method, however, is a “specified technical procedure for performing a test” (Directive, App. B). As such, a test method is not an appropriate test standard. While a NRTL may use a test method to determine if certain safety requirements are met, a test method is not itself a safety requirement for a specific product category.

Second, a document that focuses primarily on usage, installation, or maintenance requirements would also not be considered an appropriate test standard (Directive, App. D.IV.B). In some cases, however, a document may also provide safety test specifications in addition to usage, installation, and maintenance requirements. In such cases, the document would be retained as an appropriate test standard based on the safety test specifications.

Finally, a document may not be considered an appropriate test standard if the document covers products for which OSHA does not require testing and certification (Directive, App. D.IV.A). Similarly, a document that covers electrical product components would not be considered an appropriate test standard. These documents apply to types of components that have limitation(s) or condition(s) on their use, which are not appropriate for use as end-use products. These documents also specify that these types of components are for use only as part of an end-use product. NRTLs, however, evaluate such components only in the context of evaluating whether end-use products requiring NRTL approval are safe for use in the workplace. Testing such components alone would not indicate that the end-use products containing the components are safe for use. Accordingly, as a matter of policy, OSHA considers that documents covering such components are not appropriate test standards under the NRTL Program. OSHA notes, however, that it is not proposing to delete from NRTLs' scope of recognition any test standards covering end-use products that contain such components.¹

¹ OSHA notes also that some types of devices covered by these documents, such as capacitors and transformers, may be end-use products themselves, and tested under other test standards applicable to such products. For example, the following test standard covers transformers that are end-use products: UL 1562 Standard for Transformers, Distribution, Dry-Type—Over 600 Volts. OSHA is not proposing to delete such test standards from NRTLs' scopes of recognition.

In addition, OSHA notes that, to conform to a test standard covering an end-use product, a NRTL must still determine that the components in the product comply with the components' specific test standards. In making this determination, NRTLs may test the components themselves, or accept the testing of a qualified testing organization that a given component conforms to the particular test standard. OSHA reviews each NRTL's procedures to determine which approach the NRTL will use to address components, and reviews the end-use product testing to verify the NRTL appropriately addresses that product's components.

Proposed Modification to the List of Appropriate NRTL Program Test Standards and the Scope of Recognition of Several NRTLs

In a November 6, 2014, Federal Register notice (79 FR 65991, referred to in this notice as “Proposed Modification,” and available at www.regulations.gov under Docket ID OSHA-2013-0012-0011), OSHA proposed: adding several standards to the NRTL Program's List of Appropriate Test Standards; deleting several withdrawn and deleted test standards from the NRTL Program's list of appropriate test standards; incorporating into the NRTL Program's list of appropriate test standards replacement test standards for some of the withdrawn and deleted test standards; and updating the scope of recognition of several NRTLs. OSHA received two comments on proposed actions (available at www.regulations.gov under Docket IDs OSHA-2013-0012-0013 and OSHA-2013-0012-0014). OSHA fully considered these comments, and in this Notice, takes final action on the proposals.

II. Final Decision To Add a New Test Standard to the NRTL Program's List of Appropriate Test Standards

In this notice, OSHA announces the final decision to add one new test standard, UL 60745-2-23, Hand-Held Motor-Operated Electric Tools—Safety—Part 2-23: Particular Requirements for Die Grinders and Small Rotary Tools, to the NRTL Program's list of appropriate test standards. In the Proposed Modification, OSHA proposed adding sixteen test standards to the NRTL Program's List of Appropriate Test Standards, as described in Table 1:

Table 1—Test Standards OSHA Proposed To Add to the NRTL Program's List of Appropriate Test Standards
Test standard | Test standard title
AAMI HA60601-1-11 | Medical Electrical Equipment—Part 1-11: General requirements for basic safety and essential performance—Collateral Standard: Requirements for medical electrical equipment and medical electrical systems used in the home healthcare.
AAMI 60601-2-2 | Medical Electrical Equipment—Part 2-2: Particular requirements for the basic safety and essential performance of high frequency surgery equipment and high frequency surgical accessories.
AAMI 60601-2-4 | Medical Electrical Equipment—Part 2-4: Particular requirements for basic safety and essential performance of cardiac defibrillators.
AAMI 60601-2-16 | Medical Electrical Equipment—Part 2-16: Particular requirements for basic safety and essential performance of hemodialysis, hemodiafiltration and hemofiltration equipment.
AAMI 60601-2-19 | Medical Electrical Equipment—Part 2-19: Particular requirements for the basic safety and essential performance of infant incubators.
AAMI 60601-2-20 | Medical Electrical Equipment—Part 2-20: Particular requirements for the basic safety and essential performance of infant transport incubators.
AAMI 60601-2-21 | Medical Electrical Equipment—Part 2-21: Particular requirements for the basic safety and essential performance of infant radiant warmers.
AAMI 60601-2-25 | Medical Electrical Equipment—Part 2-25: Particular requirements for the basic safety and essential performance of electrocardiographs.
AAMI 60601-2-27 | Medical Electrical Equipment—Part 2-27: Particular requirements for the basic safety and essential performance of electrocardiographic monitoring equipment.
AAMI 60601-2-47 | Medical Electrical Equipment—Part 2-47: Particular requirements for the basic safety and essential performance of ambulatory electrocardiographic systems.
AAMI 60601-2-50 | Medical Electrical Equipment—Part 2-50: Particular requirements for the basic safety and essential performance of infant phototherapy equipment.
AAMI 80601-2-30 | Medical Electrical Equipment—Part 2-30: Particular requirements for the basic safety and essential performance of automated non-invasive sphygmomanometers.
AAMI 80601-2-58 | Medical Electrical Equipment—Part 2-58: Particular requirements for the basic safety and essential performance of lens removal devices and vitrectomy devices for ophthalmic surgery.
ISA 60079-25 | Explosive Atmospheres—Part 25: Intrinsically Safe Electrical Systems.
ISA 60079-27 | Explosive Atmospheres—Part 27: Fieldbus Intrinsically Safe Concept (FISCO) and Fieldbus Non-Incendive Concept (FNICO).
UL 60745-2-23 | Hand-Held Motor-Operated Electric Tools—Safety—Part 2-23: Particular Requirements for Die Grinders and Small Rotary Tools.

One commenter, Curtis Strauss, LLC, a NRTL, asserted that OSHA should not add 13 of these 16 test standards to the list of appropriate test standards: AAMI HA60601-1-11; AAMI 60601-2-2; AAMI 60601-2-4; AAMI 60601-2-16; AAMI 60601-2-19; AAMI 60601-2-20; AAMI 60601-2-21; AAMI 60601-2-25; AAMI 60601-2-27; AAMI 60601-2-47; AAMI 60601-2-50; AAMI 80601-2-30; and AAMI 80601-2-58.

In its final decision, OSHA decided not to adopt the 13 test standards as they do not address worker safety. These collateral and particular standards for AAMI ES 60601-1 do not fall under the scope of, and are not appropriate test standards under, the NRTL Program because they are primarily focused on essential performance of equipment and patient safety, and not worker safety.

In the final decision, OSHA also decided not to adopt the proposal to add ISA 60079-25 to the List of Appropriate Test Standards because doing so would lead to the placement of identical standards on the list. This test standard has already been added to the List of Appropriate Test Standards by a separate final action of the Agency (see 81 FR 91204 (Dec. 16, 2016), available on www.regulations.gov under Docket ID OSHA-2007-0039-0024).

Finally, in the final decision, OSHA decided not to adopt the proposal to add ISA 60079-27 to the List of Appropriate Test Standards. This standard is in the process of being withdrawn by ISA, as the substance of the standard has been added to other test standards (UL 60079-11 and UL 60079-25), which are already in the NRTL Program's List of Appropriate Test.

Table 2 and 3, summarize OSHA's final decisions on adding the subject test standards to its List of Appropriate Test Standards.

Table 2—Test Standards OSHA Decided Not To Add to the NRTL Program's List of Appropriate Test Standards and Rationales for Final Decisions
Test standard | Test standard title | Agency decision
AAMI HA60601-1-11 | Medical Electrical Equipment—Part 1-11: General requirements for basic safety and essential performance—Collateral Standard: Requirements for Medical Electrical Equipment and medical electrical systems used in the home healthcare | This standard does not fall under the scope of the NRTL Program.
AAMI 60601-2-2 | Medical Electrical Equipment—Part 2-2: Particular requirements for the basic safety and essential performance of high frequency surgery equipment and high frequency surgical accessories | This standard does not fall under the scope of the NRTL Program.
AAMI 60601-2-4 | Medical Electrical Equipment—Part 2-4: Particular requirements for basic safety and essential performance of cardiac defibrillators | This standard does not fall under the scope of the NRTL Program.
AAMI 60601-2-16 | Medical Electrical Equipment—Part 2-16: Particular requirements for basic safety and essential performance of hemodialysis, hemodiafiltration and hemofiltration equipment | This standard does not fall under the scope of the NRTL Program.
AAMI 60601-2-19 | Medical Electrical Equipment—Part 2-19: Particular requirements for the basic safety and essential performance of infant incubators | This standard does not fall under the scope of the NRTL Program.
AAMI 60601-2-20 | Medical Electrical Equipment—Part 2-20: Particular requirements for the basic safety and essential performance of infant transport incubators | This standard does not fall under the scope of the NRTL Program.
AAMI 60601-2-21 | Medical Electrical Equipment—Part 2-21: Particular requirements for the basic safety and essential performance of infant radiant warmers | This standard does not fall under the scope of the NRTL Program.
AAMI 60601-2-25 | Medical Electrical Equipment—Part 2-25: Particular requirements for the basic safety and essential performance of electrocardiographs | This standard does not fall under the scope of the NRTL Program.
AAMI 60601-2-27 | Medical Electrical Equipment—Part 2-27: Particular requirements for the basic safety and essential performance of electrocardiographic monitoring equipment | This standard does not fall under the scope of the NRTL Program.
AAMI 60601-2-47 | Medical Electrical Equipment—Part 2-47: Particular requirements for the basic safety and essential performance of ambulatory electrocardiographic systems | This standard does not fall under the scope of the NRTL Program.
AAMI 60601-2-50 | Medical Electrical Equipment—Part 2-50: Particular requirements for the basic safety and essential performance of infant phototherapy equipment | This standard does not fall under the scope of the NRTL Program.
AAMI 80601-2-30 | Medical Electrical Equipment—Part 2-30: Particular requirements for the basic safety and essential performance of automated non-invasive sphygmomanometers | This standard does not fall under the scope of the NRTL Program.
AAMI 80601-2-58 | Medical Electrical Equipment—Part 2-58: Particular requirements for the basic safety and essential performance of lens removal devices and vitrectomy devices for ophthalmic surgery | This standard does not fall under the scope of the NRTL Program.
ISA 60079-25 | Explosive Atmospheres—Part 25: Intrinsically Safe Electrical Systems | This standard was added as an appropriate test standard in a separate final action of the Agency.
ISA 60079-27 | Explosive Atmospheres—Part 27: Fieldbus Intrinsically Safe Concept (FISCO) and Fieldbus Non-Incendive Concept (FNICO) | This standard is currently being withdrawn by ISA.

Table 3—Test Standard OSHA Decided To Add to the NRTL Program's List of Appropriate Test Standards
Test standard | Test standard title
UL 60745-2-23 | Hand-Held Motor-Operated Electric Tools—Safety—Part 2-23: Particular Requirements for Die Grinders and Small Rotary Tools

III. Final Decision To Delete or Replace Several Test Standards From the NRTL Program's List of Appropriate Test Standards

In this notice, OSHA announces the final decision to delete seven withdrawn and deleted test standards from the NRTL Program's List of Appropriate Test Standards. OSHA also incorporates into the NRTL Program's List of Appropriate Test Standards replacement test standards for some of the withdrawn and deleted test standards. (See Table 4).

In the proposed modification, OSHA proposed deleting eight standards from the NRTL Program's List of Appropriate Test Standards, the seven standards listed in Table 4, and one additional standard, FM 3620—Purged and Pressurized Electrical Equipment for Hazardous Locations. OSHA proposed deleting FM 3620 because the references are out-of date standards, and proposed replacing FM 3620 with NFPA 496—Purged and Pressurized Enclosures for Electrical Equipment. Given this proposal, OSHA also proposed deleting FM 3620 from the scopes of recognition of NRTLs FM Approvals, LLC and Canadian Standards Association, and replacing that standard in those NRTLs' scope of recognition with NFPA 496.

In a comment to the Proposed Modification (available on www.regulations.gov under Docket ID OSHA-2013-0012-0014), FM Approvals asked that OSHA not change its existing scope of recognition, as proposed, because FM Approvals updated FM 3620 in December 2014 (after OSHA issued the proposed modification), so that the test standard no longer contains references to out-of-date standards. FM Approvals included the updated test standard as part of the comment in attachment to its comment.

OSHA has fully reviewed the test standard submitted by FM Approvals and confirmed FM Approvals' assertions. Therefore, in this final decision, OSHA will not delete FM 3620 from the List of Appropriate Test Standards, or delete FM 3620 from the scope of recognition of FM Approvals, LLC or Canadian Standards Association, or replace that standard in those NRTLs' scopes of recognition with NFPA 496.

Table 4 lists the seven test standards OSHA will delete from the NRTL Program's list of appropriate test standards, as well as abbreviated rationales for OSHA's final action. For a full discussion of the rationales, see Section I of this notice. Table 4 also lists corresponding replacement test standards that OSHA will incorporate into the NRTL Program's list of appropriate test standards (when applicable).

OSHA notes also that Table 4 lists the subject test standards and corresponding actions taken with regard to each of these test standards without indicating how the actions will affect individual NRTLs. Section IV of this notice discusses how these actions will affect individual NRTLs.

Table 4—List of Test Standards OSHA Is Deleting From or Incorporating Into NRTLs Scopes of Recognition
Deleted test standard | Reason for deletion | Replacement test standard(s) (if applicable)
UL 60950—Information Technology Equipment | Standard has been withdrawn and directly replaced by a new standard | UL 60950-1—Information Technology Equipment—Safety—Part 1: General Requirements is currently listed as an appropriate NRTL standard.
UL 61010A-1—Electrical Equipment for Laboratory Use; Part 1: General Requirements | These three standards have been withdrawn and consolidated into a single standard | UL 61010-1—Electrical Equipment for Measurement, Control, and Laboratory Use; Part 1: General Requirements is currently listed as an appropriate NRTL standard.
UL 61010B-1—Electrical Measuring and Test Equipment; Part 1: General Requirements
UL 61010C-1—Process Control Equipment
UL 1004—Electrical Motors (This standard has already been removed) | Standard has been withdrawn | UL 1004-1—Rotating Electrical machines—General Requirements is currently listed as an appropriate NRTL standard.
UL 681- Installation and Classification of Burglar and Holdup Alarm System | Standard is an installation standard and not an end-product standard. It does not meet the requirements of the NRTL Program | None.
UL 827—Central-Station Alarm Services | Standard is an installation standard and not an end-product standard. It does not meet the requirements of the NRTL Program | None.

IV. Final Decision To Modify Affected NRTLs' Scope of Recognition

In this notice, OSHA announces the final decision to update the scope of recognition of several NRTLs. The tables in this section (Table 5 thru Table 18) list, for each affected NRTL, the test standard(s) that OSHA will delete from the scope of recognition and, when applicable, the test standard(s) that OSHA will incorporate into the scope of recognition to replace withdrawn (and deleted) test standards.

In this final decision, OSHA adopts the proposed modifications to affected NRTLs' Scope of Recognition, and Table 5 thru Table 18 are identical to Table 3 thru Table 16 of the Proposed Modification, with certain exceptions:

• OSHA proposed deleting FM 3620 from the scopes of recognition of NRTLs FM Approvals, LLC, and Canadian Standards Association, and replacing that standard in those NRTLs' scopes of recognition with NFPA 496. As explained in Section III of this notice, in this final decision, OSHA will not delete FM 3620 from the List of Appropriate Test Standards, or delete FM 3620 from the scopes of recognition of FM Approvals, LLC or Canadian Standards Association, or replace that standard in those NRTLs' scopes of recognition with NFPA 496. Thus, Table 5 thru Table 18 do not include entries discussing FM 3620 or NFPA 496.

• OSHA proposed deleting UL 1004—Electrical Motors from the scopes of recognition of six NRTLs (Canadian Standards Association; Intertek Testing Services NA, Inc.; TUV Rhineland of North America, Inc.; TUV SUD America, Inc.; TUV SUD Product Services; Underwriters Laboratories, Inc.). OSHA also proposed UL 1004-1—Rotating Electrical Machines as a replacement test standard for UL 1004, but noted that “NRTLs wishing to add UL 1004-1 must submit an application to OSHA.” Table 5 thru Table 18 reflect whether the subject NRTLs have received recognition for UL 1004-1.

Table 5—Test Standards OSHA Will Delete From or Incorporate Into the Scope of Recognition of Canadian Standards Association (CSA)
Deleted test standard | Reason for deletion | Replacement test standard(s) (if applicable)
UL 1004—Electrical Motors | Standard has been withdrawn | UL 1004-1—Rotating Electrical Machines, see 80 FR 76044, Dec. 7, 2015.
UL 60950—Information Technology Equipment | Standard has been withdrawn and directly replaced by a new standard | UL 60950-1—Information Technology Equipment—Safety—Part 1: General Requirements.
UL 61010A-1—Electrical Equipment for Laboratory Use; Part 1: General Requirements | These standards have been withdrawn and consolidated into a single standard | UL 61010-1—Electrical Equipment for Measurement, Control, and Laboratory Use; Part 1: General Requirements.
UL 61010B-1—Electrical Measuring and Test Equipment; Part 1: General Requirements
UL 61010C-1—Process Control Equipment
UL 681—Installation and Classification of Burglar and Holdup Alarm System | Standard is an installation standard and not an end-product standard. It does not meet the requirements of the NRTL Program | None.
UL 827—Central-Station Alarm Services | Standard is an installation standard and not an end-product standard. It does not meet the requirements of the NRTL Program | None.

Table 6—Test Standards OSHA Will Delete From or Incorporate Into the Scope of Recognition of Curtis-Straus LLC (CSL)
Deleted test standard | Reason for deletion | Replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements | These standards have been withdrawn and consolidated into a single standard | UL 61010-1—Electrical Equipment for Measurement, Control, and Laboratory Use; Part 1: General Requirements.
UL 61010B-1—Electrical Measuring and Test Equipment; Part 1: General Requirements

Table 7—Test Standards OSHA Proposes To Delete From or Incorporate Into the Scope of Recognition FM Approvals LLC (FM)
Deleted test standard | Reason for deletion | Replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements | These standards have been withdrawn and consolidated into a single standard | UL 61010-1—Electrical Equipment for Measurement, Control, and Laboratory Use; Part 1: General Requirements.
UL 61010B-1—Electrical Measuring and Test Equipment; Part 1: General Requirements
UL 827—Central-Station Alarm Services | Standard is an installation standard and not an end-product standard. It does not meet the requirements of the NRTL Program | None.

Table 8—Test Standards OSHA Will Delete From or Incorporate Into the Scope of Recognition of Intertek Testing Services NA, Inc. (ITSNA)
Deleted test standard | Reason for deletion | Replacement test standard(s) (if applicable)
UL 1004—Electrical Motors | Standard has been withdrawn | UL 1004-1—Rotating Electrical Machines, see 79 FR 62676, Oct. 20, 2014.
UL 60950—Information Technology Equipment | Standard has been withdrawn and directly replaced by a new standard | UL 60950-1—Information Technology Equipment—Safety—Part 1: General Requirements.
UL 61010A-1—Electrical Equipment for Laboratory Use; Part 1: General Requirements | These standards have been withdrawn and consolidated into a single standard | UL 61010-1—Electrical Equipment for Measurement, Control, and Laboratory Use; Part 1: General Requirements.
UL 61010B-1—Electrical Measuring and Test Equipment; Part 1: General Requirements
UL 61010C-1—Process Control Equipment
UL 681- Installation and Classification of Burglar and Holdup Alarm System | Standard is an installation standard and not an end-product standard. It does not meet the requirements of the NRTL Program | None.
UL 827—Central-Station Alarm Services | Standard is an installation standard and not an end-product standard. It does not meet the requirements of the NRTL Program | None.

Table 9—Test Standards OSHA Will Delete From or Incorporate Into the Scope of Recognition of MET Laboratories, Inc. (MET)
Deleted test standard | Reason for deletion | Replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements | These standards have been withdrawn and consolidated into a single standard | UL 61010-1—Electrical Equipment for Measurement, Control, and Laboratory Use; Part 1: General Requirements.
UL 61010B-1—Electrical Measuring and Test Equipment; Part 1: General Requirements |
UL 61010C-1—Process Control Equipment |

Table 10—Test Standards OSHA Will Delete From or Incorporate Into the Scope of Recognition of Nemko North America, Inc. (NNA)
Deleted test standard | Reason for deletion | Replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements | Standard has been withdrawn and consolidated with others into a single standard | UL 61010-1—Electrical Equipment for Measurement, Control, and Laboratory Use; Part 1: General Requirements.

Table 11—Test Standard OSHA Will Delete From or Incorporate Into the Scope of Recognition of NSF International (NSF)
Deleted test standard | Reason for deletion | Replacement test standard(s) (if applicable)
UL 61010A-1—Electrical Equipment for Laboratory Use; Part 1: General Requirements | Standard has been withdrawn and consolidated with others into a single standard | UL 61010-1—Electrical Equipment for Measurement, Control, and Laboratory Use; Part 1: General Requirements.

Table 12—Test Standard OSHA Will Delete From or Incorporate Into the Scope of Recognition of QPS Evaluation Services (QPS)
Deleted test standard | Reason for deletion | Replacement test standard(s) (if applicable)
UL 60950—Information Technology Equipment | Standard has been withdrawn and directly replaced by a new standard | UL 60950-1—Information Technology Equipment—Safety—Part 1: General Requirements.

Table 13—Test Standards OSHA Will Delete From or Incorporate Into the Scope of Recognition SGS North America, Inc. (SGS)
Deleted test standard | Reason for deletion | Replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements | These standards have been withdrawn and consolidated into a single standard | UL 61010-1—Electrical Equipment for Measurement, Control, and Laboratory Use; Part 1: General Requirements.
UL 61010B-1—Electrical Measuring and Test Equipment; Part 1: General Requirements |

Table 14—Test Standard OSHA Will Delete From or Incorporate Into the Scope of Recognition of Southwest Research Institute (SWRI)
Deleted test standard | Reason for deletion | Replacement test standard(s) (if applicable)
UL 60950—Information Technology Equipment | Standard has been withdrawn and directly replaced by a new standard | UL 60950-1—Information Technology Equipment—Safety—Part 1: General Requirements.

Table 15—Test Standards OSHA Will Delete From or Incorporate Into the Scope of Recognition of TUV Rhineland of North America, Inc. (TUV)
Deleted test standard | Reason for deletion | Replacement test standard(s) (if applicable)
UL 1004—Electrical Motors | Standard has been withdrawn | UL 1004-1—Rotating Electrical Machines, see 82 FR 7866, Jan. 20, 2017.
UL 60950—Information Technology Equipment | Standard has been withdrawn and directly replaced by a new standard | UL 60950-1—Information Technology Equipment—Safety—Part 1: General Requirements.
UL 61010A-1—Electrical Equipment for Laboratory Use; Part 1: General Requirements | These standards have been withdrawn and consolidated into a single standard | UL 61010-1—Electrical Equipment for Measurement, Control, and Laboratory Use; Part 1: General Requirements.
UL 61010B-1—Electrical Measuring and Test Equipment; Part 1: General Requirements |
UL 61010C-1—Process Control Equipment |
UL 681- Installation and Classification of Burglar and Holdup Alarm System | Standard is an installation standard and not an end-product standard. It does not meet the requirements of the NRTL Program | None.
UL 827—Central-Station Alarm Services | Standard is an installation standard and not an end-product standard. It does not meet the requirements of the NRTL Program | None.

Table 16—Test Standards OSHA Will Delete From or Incorporate Into the Scope of Recognition of TUV SUD America, Inc. (TUVAM)
Deleted test standard | Reason for deletion | Replacement test standard(s) (if applicable)
UL 1004—Electrical Motors | Standard has been withdrawn | Application pending to add UL 1004-1—Rotating Electrical Machines to TUVAM's scope of recognition.
UL 60950—Information Technology Equipment | Standard has been withdrawn and directly replaced by a new standard | UL 60950-1—Information Technology Equipment—Safety—Part 1: General Requirements.
UL 61010A-1—Electrical Equipment for Laboratory Use; Part 1: General Requirements | These standards have been withdrawn and consolidated into a single standard | UL 61010-1—Electrical Equipment for Measurement, Control, and Laboratory Use; Part 1: General Requirements.
UL 61010B-1—Electrical Measuring and Test Equipment; Part 1: General Requirements |

Table 17—Test Standards OSHA Will Delete From or Incorporate Into the Scope of Recognition of TUV SUD Product Services (TUVPSG)
Deleted test standard | Reason for deletion | Replacement test standard(s) (if applicable)
UL 1004—Electrical Motors | Standard has been withdrawn | Application pending to add UL 1004-1—Rotating Electrical Machines to TUVPSG's scope of recognition.
UL 60950—Information Technology Equipment | Standard has been withdrawn and directly replaced by a new standard | UL 60950-1—Information Technology Equipment—Safety—Part 1: General Requirements.
UL 61010A-1—Electrical Equipment for Laboratory Use; Part 1: General Requirements | These standards have been withdrawn and consolidated into a single standard | UL 61010-1—Electrical Equipment for Measurement, Control, and Laboratory Use; Part 1: General Requirements.
UL 61010B-1—Electrical Measuring and Test Equipment; Part 1: General Requirements |

Table 18—Test Standards OSHA Will Delete From or Incorporate Into the Scope of Recognition of Underwriters Laboratories Inc. (UL)
Deleted test standard | Reason for deletion | Replacement test standard(s) (if applicable)
UL 1004—Electrical Motors | Standard has been withdrawn | UL 1004-1—Rotating Electrical Machines, see 79 FR 63949, Oct. 27, 2014.
UL 60950—Information Technology Equipment | Standard has been withdrawn and directly replaced by a new standard | UL 60950-1—Information Technology Equipment—Safety—Part 1: General Requirements.
UL 61010A-1—Electrical Equipment for Laboratory Use; Part 1: General Requirements | These standards have been withdrawn and consolidated into a single standard | UL 61010-1—Electrical Equipment for Measurement, Control, and Laboratory Use; Part 1: General Requirements.
UL 61010B-1—Electrical Measuring and Test Equipment; Part 1: General Requirements |
UL 681- Installation and Classification of Burglar and Holdup Alarm System | Standard is an installation standard and not an end-product standard. It does not meet the requirements of the NRTL Program | None.
UL 827—Central-Station Alarm Services | Standard is an installation standard and not an end-product standard. It does not meet the requirements of the NRTL Program | None.

OSHA will place any modifications on informational web pages to each NRTL's scope of recognition. These web pages detail the scope of recognition for each NRTL, including the test standards the NRTL may use to test and certify products under OSHA's NRTL Program. OSHA also will add to the “Current List of Appropriate Test Standards under the NRTL Program” web page, those test standards added to the NRTL list of appropriate test standards. The agency will add, to the “Current List of Removed Test Standards” web page those test standards that OSHA no longer recognizes or permits under the NRTL Program. Access to these web pages is available at http://www.osha.gov/dts/otpca/nrtl/index.html.

V. Authority and Signature

Loren Sweatt, Deputy Assistant Secretary of Labor for Occupational Safety and Health, authorized the preparation of this notice. Accordingly, the Agency is issuing this notice pursuant to 29 U.S.C. 657(g)(2)), Secretary of Labor's Order No. 1-2012 (77 FR 3912, Jan. 25, 2012), and 29 CFR 1910.7.

Signed at Washington, DC, on April 3, 2019.
Loren Sweatt,
Acting Assistant Secretary of Labor for Occupational Safety and Health.

[FR Doc. 2019-07039 Filed 4-9-19; 8:45 am]

BILLING CODE 4510-26-P